DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 2, 2009.

Interested persons are invited to submit written comments regarding the subject matter of the investigations to the Director, Division of Trade Adjustment Assistance, at the address shown below, not later than October 2, 2009.

The petitions filed in this case are available for inspection at the Division of Trade Adjustment Assistance, Employment and Training Administration, U.S. Department of Labor, Room N-5428, 200 Constitution Avenue, NW., Washington, DC 20210.

Signed at Washington, DC, this 31st day of August 2009.
Linda G. Poole,
Certifying Officer, Division of Trade Adjustment Assistance.

Appendix
[TAA petitions instituted between 7/27/09 and 7/31/09]
TA-W | Subject firm (petitioners) | Location | Date of institution | Date of petition
71807 | B & C Machine Company (Wkrs) | Barberton, OH | 07/27/09 | 07/27/09
71808 | Student Universe (State) | Waltham, MA | 07/27/09 | 07/27/09
71809 | Keane, Inc. (State) | Boston, MA | 07/27/09 | 07/27/09
71810 | Novell, Inc. (Wkrs) | Provo, UT | 07/27/09 | 07/24/09
71811 | Ficosa North America (Comp) | Crossville, TN | 07/27/09 | 07/24/09
71812 | Sigma Tech (Wkrs) | Hayward, CA | 07/27/09 | 07/24/09
71813 | Getrag Corporation (Wkrs) | Newton, NC | 07/27/09 | 07/20/09
71814 | Lavita, Inc. (Comp) | New York, NY | 07/27/09 | 07/20/09
71815 | Computer Sciences Corporation (Wkrs) | Falls Church, VA | 07/27/09 | 07/17/09
71816 | Chicago and Midwest Regional Joint Board (Wkrs) | Toledo, OH | 07/27/09 | 07/24/09
71817 | Dousan Bobcat (Wkrs) | Gwinner, ND | 07/27/09 | 07/23/09
71818 | Sun Trust Bank- STOLI (Other) | Miami, FL | 07/27/09 | 07/24/09
71819 | Benco Manufacturing (Comp) | Belle Plaine, IA | 07/27/09 | 07/20/09
71820 | Fulton Precision Industries (Wkrs) | McConnerllburg, PA | 07/27/09 | 07/24/09
71821 | American Keeper Corporation (Wkrs) | New Castle, IN | 07/27/09 | 07/24/09
71822 | Parker Hannifian Corporation (Comp) | Lyons, NY | 07/27/09 | 07/23/09
71823 | Schawk Minneapolis (State) | Minneapolis, MN | 07/28/09 | 07/27/09
71824 | Neenah Paper FR, LLC (Union) | Ripon, CA | 07/28/09 | 07/27/09
71825 | Transistor Devices, Inc. (State) | Hackettstown, NJ | 07/28/09 | 07/27/09
71826 | Weyerhauser Company (Comp) | Simsboro, LA | 07/28/09 | 07/27/09
71827 | Century Dodge, Inc. (Comp) | Taylor, MI | 07/28/09 | 07/26/09
71828 | Brown Shoe (Union) | Fredericktown, MO | 07/28/09 | 07/27/09
71829 | Cameron Measurement Systems (Wkrs) | Duncan, OK | 07/28/09 | 07/27/09
71830 | S & B Industry Technologies, LP (Wkrs) | Fort Worth, TX | 07/28/09 | 07/22/09
71831 | Trail King Industries, Inc. (Wkrs) | Brookville, PA | 07/28/09 | 07/24/09
71832 | Electrocraft, Rockwell Automation (Wkrs) | Gallipolis, OH | 07/28/09 | 07/27/09
71833 | E. I. Dupont (State) | Circleville, OH | 07/28/09 | 07/17/09
71834 | Ceridian Corporation (Wkrs) | Minneapolis, MN | 07/28/09 | 07/16/09
71835 | Frac Tech Services (Wkrs) | Longview, TX | 07/28/09 | 07/20/09
71836 | Interstate Lift Trucks (Wkrs) | Cleveland, OH | 07/29/09 | 07/25/09
71837 | Texturing Services (Comp) | Martinsville, VA | 07/29/09 | 07/28/09
71838 | Chickasha Manufacturing (Wkrs) | Chickasha, OK | 07/29/09 | 07/28/09
71839 | Negevtech, Inc (Wkrs) | Santa Clara, CA | 07/29/09 | 07/02/09
71840 | Tyler Pipe Company (Comp) | Tyler, TX | 07/29/09 | 07/28/09
71841 | Vital Sions-Minnesota (State) | Burnsviller, MN | 07/29/09 | 07/29/09
71842 | Honeywell Electronic Materials (Wkrs) | Sunnyvale, CA | 07/29/09 | 07/21/09
71843 | Nioxin Research Laboratories, Inc. (Comp) | Lithia Springs, GA | 07/29/09 | 07/21/09
71844 | Clarcob Air Filtration Products (Other) | Rockford, IL | 07/29/09 | 07/28/09
71845 | Lattice Semiconductor Corporation (Comp) | Hillsboro, OR | 07/29/09 | 07/28/09
71846 | ACS Consultant Company Inc. (Wkrs) | Cheshire, CT | 07/29/09 | 07/07/09
71847 | Technical Machining Services, IPC (Wkrs) | Lincoln, RI | 07/29/09 | 07/27/09
71848 | Systems Intergrators LCC (Wkrs) | Glendale, AZ | 07/29/09 | 07/28/09
71849 | Owens Illinois (Wkrs) | Perrysburg, OH | 07/29/09 | 07/28/09
71850 | Bank of America (Wkrs) | Utlca, NY | 07/29/09 | 07/27/09
71851 | Best Textile International (State) | New York, NY | 07/29/09 | 07/28/09
71852 | Wagon Automotive Inc. (Comp) | Wixam, MI | 07/29/09 | 07/28/09
71853 | Global Accessories, Inc. (Wkrs) | Fremont, OH | 07/29/09 | 07/27/09
71854 | Infineon Technologies North America Corp. (Wkrs) | Allentown, PA | 07/30/09 | 07/24/09
71855 | Freescale Semiconductor (Wkrs) | Tempe, AZ | 07/30/09 | 07/23/09
71856 | SER Enterprise/DHL Logistics (Wkrs) | Webb City, MO | 07/30/09 | 06/26/09
71857 | JJ Bouchard Inc. (Wkrs) | Van Buren, ME | 07/30/09 | 07/27/09
71858 | Maritz, Inc. (State) | Fenton, MI | 07/30/09 | 07/29/09
71859 | Faribault Woolen Mill Company (State) | Faribault, MN | 07/30/09 | 07/29/09
71860 | Cenveo Colorhouse (State) | Minneapolis, MN | 07/30/09 | 07/28/09
71861 | Contour Plastics (Wkrs) | Baldwin, WI | 07/30/09 | 07/22/09
71862 | Deutsche Bank (Wkrs) | New York, NY | 07/30/09 | 07/27/09
71863 | UAW Local 1999 (Wkrs) | Oklahoma City, OK | 07/30/09 | 07/29/09
71864 | Axxion Group (Wkrs) | El Pasp, TX | 07/30/09 | 07/28/09
71865 | QMS,Inc. (Wkrs) | Glosgow, KY | 07/30/09 | 07/29/09
71866 | Mohawk, A division of Belden Inc. (Comp) | Leominster Dr., MA | 07/30/09 | 07/29/09
71867 | Fortis Plastics, LLC (Wkrs) | Booneville, MS | 07/30/09 | 06/25/09
71868 | Sundyne Electromagnetics (Wkrs) | Pleasant Prairie, WI | 07/31/09 | 07/29/09
71869 | Lane Furniture Ind., Inc (Comp) | Conover, NC | 07/31/09 | 07/30/09
71870 | Domtar (Wkrs) | Johnsonburg, PA | 07/31/09 | 07/30/09
71871 | Watts Regulator (Wkrs) | Spindale, NC | 07/31/09 | 07/30/09
71872 | Fraser Papers Limited (State) | Madawaska, ME | 07/31/09 | 07/30/09
71873 | Global Metal Products, Inc. (Comp) | St. Marys, PA | 07/31/09 | 07/29/09
71874 | Guardian Automotive Trim, Inc. (Wkrs) | Evansville, IN | 07/31/09 | 07/30/09
71875 | Kaiser Permanente Information Technology (Wkrs) | Walnut Creek, CA | 07/31/09 | 07/29/09
71876 | Direct Brands, Inc. (Wkrs) | Indianapolis, IN | 07/31/09 | 07/29/09
71877 | American Furniture Manufacturing, Inc. (Wkrs) | Ecru, MS | 07/31/09 | 07/29/09
71878 | EDS, an HP Company (Wkrs) | Plano, TX | 07/31/09 | 07/29/09
71879 | Kenco Group (State) | Webster City, IA | 07/31/09 | 07/30/09
71880 | Brooks Automation, Inc. (Wkrs) | Chelmsford, MA | 07/31/09 | 07/30/09
71881 | Ossur America (Wkrs) | Allso Viejo, CA | 07/31/09 | 07/30/09
71882 | Alcoa (formerly Reynolds Metals) (Comp) | Massena, NY | 07/31/09 | 07/30/09
71883 | Johnson Controls Interior Manufacturing (JCIM) (Wkrs) | Holland, MI | 07/31/09 | 07/25/09
71884 | Chipblaster, Inc. (Wkrs) | Meadville, PA | 07/31/09 | 07/20/09

[FR Doc. E9-22755 Filed 9-21-09; 8:45 am]

BILLING CODE 4510-FN-P